DEPARTMENT OF AGRICULTURE

Forest Service

Implementation of the National Forest Organizational Camp Fee Improvement Act of 2003; Correction

AGENCY: USDA, Forest Service.

ACTION: Notice of issuance of agency directives; correction.

SUMMARY: The Forest Service published a document in the Federal Register of May 4, 2004, providing notice of the issuance of agency directives for implementation of the National Forest Organizational Camp Fee Improvement Act of 2003. The document contained several incorrect amendment and interim directive numbers.

FOR FURTHER INFORMATION CONTACT: Kenneth Karkula, Recreation, Heritage, and Wilderness Resources Staff (202-205-1426), USDA, Forest Service.

Correction

In the Federal Register of May 4, 2004, in FR Doc. 04-10064, on page 24559, in the second column, correct the third sentence in the “Summary” to read: These revisions involve amendments and interim directives (IDs) to Forest Service Manual (FSM) 2340 (Amendment 2300-2004-1); FSM 2700, zero code chapter (Amendment 2700-2004-1); FSM 2720 (Amendment 2700-2004-2); and Forest Service Handbook (FSH) 2709.11, chapter 30 (ID 2709.11-2004-1), chapter 40 (ID 2709.11-2004-2), and chapter 50 (Amendment 2709.11-2004-2).

Dated: May 11, 2004.
Gloria Manning,
Associate Deputy Chief.

[FR Doc. 04-11442 Filed 5-19-04; 8:45 am]

BILLING CODE 3410-11-P